DEPARTMENT OF ENERGY

Federal Energy Regulatory Commission

[Project No. 15270-000]

Premium Energy Holdings, LLC; Notice of Preliminary Permit Application Accepted for Filing and Soliciting Comments, Motions To Intervene, and Competing Applications

On March 31, 2022, Premium Energy Holdings, LLC filed an application for a preliminary permit, pursuant to section 4(f) of the Federal Power Act (FPA), proposing to study the feasibility of the Santa Margarita Pumped Storage Hydro Project to be located approximately 10 miles southeast of Lan Luis Obispo, California in San Luis Obispo County. The sole purpose of a preliminary permit, if issued, is to grant the permit holder priority to file a license application during the permit term. A preliminary permit does not authorize the permit holder to perform any land-disturbing activities or otherwise enter upon lands or waters owned by others without the owners' express permission.

The proposed project would consist of the following: (1) an existing upper reservoir (Santa Margarita Lake) at an elevation of 1,300 feet above average mean sea level, with a surface area of 1,100 acres and a total storage capacity of 23,840 acre-feet; (2) an existing lower reservoir (Lopez Lake) at an elevation of 560 feet above average mean sea level, with a surface area of 950 acres and a storage capacity of 49,900 acre-feet; (3) 0.84-mile-long headrace tunnel, 0.19-mile-long vertical shaft, 5.86-mile-long horizontal tunnel, 0.09-mile-long penstock, and 1.22-mile-long tailrace tunnel to connect the powerhouse to the reservoirs; (4) a new powerhouse that would house 4 new pump-turbines rated at 150 megawatts each; (5) a new substation constructed in the western shore of Lake Lopez near the powerhouse, interconnected to the regional electrical utility network with either; (6) a new 2.5-mile-long 500-kilovolt (kV) transmission line from the powerhouse to a new switchyard located 1.3 miles south of the Lopez dam that will connect with PG&E's 500-kV line, or a new 4.5-mile-long 500-kV line that will connect the powerhouse to PG&E's 500-kV line at a new switchyard located 0.5 miles from Talley Vineyard using Lopez road as an existing right-of-way; and (7) appurtenant facilities. The estimated annual power generation at the Santa Margarita Pumped Storage Project would be 1,200,000 megawatt-hours.

Applicant Contact: Victor M. Rojas, Managing Director, Premium Energy Holdings, LLC, 355 South Lemon Ave., Suite A, Walnut, California 91789; phone: (909) 595-5314; victor.rojas@pehllc.net.

FERC Contact: Benjamin Mann; email: benjamin.mann@ferc.gov; phone: (202) 502-8127.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15270.

More information about this project, including a copy of the application, can be viewed or printed on the “eLibrary” link of Commission's website at http://www.ferc.gov/docs-filing/elibrary.asp. Enter the docket number (P-15270) in the docket number field to access the document. For assistance, contact FERC Online Support.

Dated: January 26, 2023.
Debbie-Anne A. Reese,
Deputy Secretary.

[FR Doc. 2023-02087 Filed 1-31-23; 8:45 am]

BILLING CODE 6717-01-P